ENVIRONMENTAL PROTECTION AGENCY

[FRL-9320-8]

Notice of a Project Waiver of Section 1605 (Buy American Requirement) of the American Recovery and Reinvestment Act of 2009 (ARRA) to Salt Lake City, UT; Correction

AGENCY: Environmental Protection Agency (EPA).

ACTION: Notice; correction.

SUMMARY: The Environmental Protection Agency published a document in the Federal Register on April 1, 2011, concerning the Agency's decision to grant a project waiver of Section 1605 (Buy American Requirement) of the American Recovery and Reinvestment Act of 2009 (ARRA) for three vertical linear motion mixers to be installed in Salt Lake City's Water Reclamation Facility anaerobic digesters. The document contained the incorrect quantity of vertical linear motion mixers. The correct number is four.

FOR FURTHER INFORMATION CONTACT: Jody Ostendorf, Recovery Act Coordinator, (303) 312-7814, or Brian Friel, SRF Coordinator, (303) 312-6277, Technical & Financial Services Unit, Water Program, Office of Partnerships & Regulatory Assistance, U.S. EPA Region 8, 1595 Wynkoop St., Denver, CO 80202.

Correction

In the Federal Register (FR) of April 1, 2011, in FR Doc. FRL-9287-6, on page 18218, in the second column, in the SUMMARY, on line 10, correct the number of vertical linear motion mixers from three to four; on page 18218, in the third column, in the SUPPLEMENTARY INFORMATION, on line 7, correct the number of vertical linear motion mixers from three to four; on page 18219, in the second column, in the SUPPLEMENTARY INFORMATION, on line 62, correct the number of vertical linear motion mixers from three to four.

Dated: June 8, 2011.
James Martin,
Regional Administrator, Region 8.

[FR Doc. 2011-15252 Filed 6-17-11; 8:45 am]

BILLING CODE 6560-50-P